DEPARTMENT OF ENERGY

Federal Energy Regulatory Commission

[Docket No. RP02-412-001]

KO Transmission Company; Notice of Compliance Filing

November 6, 2002.

Take notice that on November 1, 2002, KO Transmission Company (KOT) tendered for filing as part of its FERC Gas Tariff, Original Volume No. 1, the following tariff sheet with a proposed effective date of October 1, 2002:

Substitute Fourth Revised Sheet No. 147

KOT tendered this tariff filing as required by the Commission's Letter Order issued September 30, 2002, wherein the Commission accepted KOT's filing in compliance with Order No. 587-0, but directed that tariff sheets be revised and refiled to reflect only Version 1.5 as the current version for all applicable NAESB standards.

Any person desiring to protest said filing should file a protest with the Federal Energy Regulatory Commission, 888 First Street, NE., Washington, DC 20426, in accordance with section 385.211 of the Commission's rules and regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings.See, 18 CFR 385.2001(a)(1)(iii) and the instructions on the Commission's web site under the “e-Filing” link.

Magalie R. Salas,
Secretary.

[FR Doc. 02-28778 Filed 11-12-02; 8:45 am]

BILLING CODE 6717-01-P